FEDERAL COMMUNICATIONS COMMISSION

[FR ID 130889]

Open Commission Meeting Thursday, March 16, 2023

March 9, 2023.

The Federal Communications Commission will hold an Open Meeting on the subjects listed below on Thursday, March 16, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Tele-Communications and International | Title: Single Network Future: Supplemental Coverage from Space (GN Docket No. 23-65); Space Innovation (IB Docket 22-271.
|  | Summary: The Commission will consider a Notice of Proposed Rulemaking that would propose a new regulatory framework for supplemental coverage from space. Through this proposed framework, satellite operators collaborating with terrestrial providers would be able to operate space stations on currently licensed, flexible-use spectrum to expand coverage to the terrestrial provider's subscribers.
2 | Wireline Competition | Title: Incarcerated People's Communications Services; Implementation of the Martha Wright-Reed Act (WC Docket No. 23-62); Rates for Interstate Inmate Calling Services (WC Docket No. 12-375).
|  | Summary: The Commission will consider a Notice of Proposed Rulemaking and Order, which would begin the Commission's implementation of the Martha Wright-Reed Just and Reasonable Communications Act of 2022. The Notice of Proposed Rulemaking seeks comment on how the Commission should interpret that Act's language to ensure just and reasonable rates and charges for incarcerated people's audio and video communications services. The Order will delegate authority to the Wireline Competition Bureau and the Office of Economics and Analytics to update and restructure their most recent data collection as appropriate to fulfill the requirements of the new statute.
3 | Wireline Competition | Title: Call Authentication Trust Anchor (WC Docket No. 17-97).
|  | Summary: The Commission will consider a Report and Order and Further Notice of Proposed Rulemaking that would close a critical gap in the STIR/SHAKEN caller ID authentication regime, expand robocall mitigation requirements for all providers, adopt more robust enforcement tools, and seek comment on additional steps to further enhance the effectiveness of the STIR/SHAKEN framework.
4 | Consumer and Governmental Affairs | Title: Targeting and Eliminating Unlawful Text Messages (CG Docket No. 21-402); Rules and Regulations Implementing the Telephone Consumer Protection Act of 1991 (CG Docket No. 02-278).
|  | Summary: The Commission will consider a Report and Order which would require that providers block texts purporting to be from numbers on a reasonable Do-Not-Originate list; and make available a single point of contact for text message blocking complaints. The Commission will also consider a Further Notice of Proposed Rulemaking which would propose to require further blocking of illegal robotexts; expand Do-Not-Call protections to robotexts; and protect consumers from getting robotexts and robocalls from multiple, unexpected callers when they provide their consent on websites for comparison shopping.
5 | Engineering and Technology | Title: Updating Equipment Testing Standards (ET Docket No. 21-363).
|  | Summary: The Commission will consider a Report and Order which would incorporate standards that are to be used in the testing of equipment to ensure compliance with FCC rules.
6 | Media | Title: Audio Description DMA Expansion (MB Docket No. 11-43).
|  | Summary: The Commission will consider a Further Notice of Proposed Rulemaking which would propose to expand support for individuals who are blind or visually impaired by expanding audio description requirements to additional market areas. The proposal would help ensure that a greater number of individuals who are blind or visually impaired can be connected, informed, and entertained by television programming.
7 | Enforcement | Title: Enforcement Bureau Action.
|  | Summary: The Commission will consider an enforcement action.
8 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-05404 Filed 3-15-23; 8:45 am]

BILLING CODE 6712-01-P